DEPARTMENT OF THE INTERIOR

National Park Service

Transportation Plan, Environmental Impact Statement, Mesa Verde National Park, Colorado

AGENCY: National Park Service, Department of the Interior.

ACTION: Notice of intent to prepare an environmental impact statement for the Transportation Plan, Mesa Verde National Park.

SUMMARY: Under the provisions of the National Environmental Policy Act of 1969, the National Park Service is preparing an environmental impact statement for the transportation plan for Mesa Verde National Park. This effort will result in a comprehensive transportation plan that considers various means to get visitors and employees into the park, and effectively manage use within the park in order to enhance visitor experience, protect resources and otherwise carry out the mission of the park. The plan will be developed in consultation with local communities, other federal and state agencies, the 24 tribes affiliated with the park, including the neighboring Ute Mountain Ute Tribe, and all other interested and affected organizations and individuals. Alternatives to be considered include no-action, the environmentally preferred alternative, the agency-preferred alternative, and transportation options such as improving roadway, parking and trail facilities, using various ground and aerial guideway systems, applying various visitor management strategies, and other ideas that come out of the public process.

Major issues include protecting natural resources, systems and processes; protecting cultural resources such as archeological, ethnographic, historic and landscape resources; changes to the visitor experience; requirements of the Americans with Disabilities Act; local economic impacts that may result from any changes to visitor use; cultural concerns of the 24 affiliated tribes; and impacts to park operations and existing and future capacity constraints of any proposed transportation system.

A scoping newsletter will be distributed via mail and will be posted on the Internet. Also, meetings will be held to solicit input from the public, federal and state agencies, and affiliated tribes. Copies of scoping information may be obtained from Larry T. Wiese, P.O. Box 8, Mesa Verde, CO 81330, (970) 529-4465.

DATES: The scoping period will be a minimum of 60 days and will begin the date this notice is published in the Federal Register.

ADDRESSES: Information will be available for public review and comment in the Mesa Verde National Park Headquarters (970) 529-4465.

FOR FURTHER INFORMATION CONTACT: Larry T. Wiese, Superintendent, Mesa Verde National Park, (970) 529-4465.

SUPPLEMENTARY INFORMATION: If you wish to comment on the scoping brochure, or any other issues associated with the plan, you may submit your comments or questions by any one of several methods. You may mail comments to Patricia Trap, Planner, Mesa Verde National Park, P.O. Box 8, Mesa Verde, CO 81330. You may also comment via the Internet to MEVE_PLANNING@nps.gov. Please submit Internet comments as an ASCII file avoiding the use of special characters and any form of encryption. Please also include “Attn: Mesa Verde Transportation Plan” and your name and return address in your Internet message. If you do not receive a confirmation from the system that we have received your Internet message, contact us directly at (970) 529-4465. Finally, you may hand-deliver comments to Mesa Verde National Park Headquarters. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: May 15, 2002.
R. Everhart,
Director, Intermountain Region, National Park Service.

[FR Doc. 02-24070 Filed 9-20-02; 8:45 am]

BILLING CODE 4310-70-P